NUCLEAR REGULATORY COMMISSION

Notice of Intent to Prepare an Environmental Impact Statement for the Decommissioning of the Shieldalloy Metallurgical Corporation, New Field, New Jersey

AGENCY: Nuclear Regulatory Commission.

ACTION: Notice of Intent (NOI).

SUMMARY: Shieldalloy Metallurgical Corporation (SMC) submitted a decommissioning plan (DP) (ML053190212) on October 21, 2005, that proposes radiological remedial actions that would allow the material license to be amended to a long term control license for the SMC facility located in New Field, New Jersey. By a letter dated January 26, 2006, the U.S. Nuclear Regulatory Commission (NRC) notified SMC that the DP was being rejected due to technical deficiencies. On June 30, 2006, SMC submitted a supplement (ML061980092) to its DP. In a letter dated October 18, 2006, the NRC accepted the DP for review. The NRC, in accordance with the National Environmental Policy Act (NEPA) and its regulations in 10 CFR Part 51, announces its intent to prepare an Environmental Impact Statement (EIS). The EIS will examine the potential environmental impacts of the proposed decommissioning plan for the SMC facility.

DATES: The public scoping process required by NEPA begins with publication of this NOI and continues until January 31, 2007. Written comments submitted by mail should be postmarked by that date to ensure consideration. Comments mailed after that date will be considered to the extent practical.

ADDRESSES: Members of the public are invited and encouraged to submit comments to the Chief, Rulemaking, Directives, and Editing Branch, Mail Stop: T6-D59, U.S. Nuclear Regulatory Commission, Washington, DC 20555-0001. Please note Docket No. 40-7102 when submitting comments. Commentors are also encouraged to send comments electronically to ShieldalloyEIS@nrc.gov, or by facsimile to (301) 415-5397, ATTN.: Gregory Suber.

FOR FURTHER INFORMATION CONTACT: For general or technical information associated with the license review of the SMC decommissioning plan, please contact: Ken Kalman at (301) 415-6664. For general information on the NRC NEPA process, or the environmental review process related to the SMC decommissioning plan, please contact Gregory Suber at (301) 415-1124.

Information and documents associated with the SMC project, including the SMC decommissioning plan and supplement (submitted on October 21, 2005 and June 30, 2006 respectively), are available for public review through our electronic reading room: http://www.nrc.gov/reading-rm/adams.html. Documents may also be obtained from NRC's Public Document Room at U.S. Nuclear Regulatory Commission Headquarters, 11555 Rockville Pike (first floor), Rockville, Maryland.

SUPPLEMENTARY INFORMATION:

1.0 Background

SMC submitted a decommissioning plan and an environmental report for its Newfield, New Jersey facility to the NRC on October 21, 2005. The NRC will evaluate the potential environmental impacts associated with SMC facility in parallel with the review of the decommissioning plan. This environmental evaluation will be documented in draft and final Environmental Impact Statements in accordance with NEPA and NRC's implementing regulations at 10 CFR Part 51.

2.0 SMC Newfield Facility

The SMC operated a ferrocolumbium manufacturing process at its facility in New Field, NJ. Raw materials included ores which contained licensable quantities of 10 CFR Part 40 source material (natural uranium and thorium.) In 2001, SMC notified the NRC of its intent to decommission the plant because principal activities authorized by the license (SMB-743) had ceased. SMC proposes decommissioning part of the site for unrestricted release and maintaining a portion of the site under a long term control license.

3.0 Alternatives to be Evaluated

No-Action—For the no-action alternative, the NRC would not approve the decommissioning plan. The site would remain subject to the present source material license. This alternative serves as a baseline for comparison.

Proposed action—The proposed action involves approving the decommissioning plan and amending the license to allow long-term storage of source material at SMC's site located in New Field, NJ. Under SMC's proposal, part of the site would be released for unrestricted use while part would be maintained under a long term control license.

Other alternatives not listed here may be identified through the scoping process.

4.0 Environmental Impact Areas To Be Analyzed

The following areas have been tentatively identified for analysis in the EIS:

—Land Use: Plans, policies and controls;

—Transportation: Transportation modes, routes, quantities, and risk estimates;

—Geology and Soils: Physical geography, topography, geology and soil characteristics;

Water Resources: Surface and groundwater hydrology, water use and quality, and the potential for degradation;

Ecology: Wetlands, aquatic, terrestrial, economically and recreationally important species, and threatened and endangered species;

Air Quality: meteorological conditions, ambient background, pollutant sources, and the potential for degradation;

—Noise: ambient, sources, and sensitive receptors;

Historical and Cultural Resources: historical, archaeological, and traditional cultural resources;

Visual and Scenic Resources: landscape characteristics, manmade features and viewshed;

Socioeconomics: demography, economic base, labor pool, housing, transportation, utilities, public services/facilities, education, recreation, and cultural resources;

Environmental Justice: potential disproportionately high and adverse impacts to minority and low-income populations;

Public and Occupational Health: potential public and occupational consequences from construction, routine operation, transportation, and credible accident scenarios (including natural events);

Waste Management: types of wastes expected to be generated, handled, and stored; and

Cumulative Effects: impacts from past, present and reasonably foreseeable actions at, and near the site(s).

This list is not intended to be all inclusive, nor is it a predetermination of potential environmental impacts. The list is presented to facilitate comments on the scope of the EIS. Additions to, or deletions from this list may occur as a result of the public scoping process.

5.0 Scoping Meeting

One purpose of this NOI is to encourage public involvement in the EIS process, and to solicit public comments on the proposed scope and content of the EIS. The NRC held a public scoping meeting in Newfield, New Jersey, to solicit both oral and written comments from interested parties. Approximately 150 people attended the meeting.

Scoping is an early and open process designed to determine the range of actions, alternatives, and potential impacts to be considered in the EIS, and to identify the significant issues related to the proposed action. It is intended to solicit input from the public and other agencies so that the analysis can be more clearly focused on issues of genuine concern. The principal goals of the scoping process are to:

—Ensure that concerns are identified early and are properly studied;

—Identify alternatives that will be examined;

—Identify significant issues that need to be analyzed;

—Eliminate unimportant issues; and

—Identify public concerns.

The scoping meeting began with NRC staff providing a description of the NRC's role and mission. NRC staff gave a brief overview of the licensing process followed by a brief description of the environmental review process. The bulk of the meeting was reserved for attendees to make oral comments.

6.0 Scoping Comments

Written comments should be mailed to the address listed above in the ADDRESSES Section.

The NRC staff will make the scoping summary and project-related materials available for public review through our electronic reading room: http://www.nrc.gov/reading-rm/adams.html. The scoping meeting summaries and project-related materials will also be available on the NRC's SMC Web page: http://www.nrc.gov/materials/fuel-cycle-fac/smcfacility.html (case sensitive).

7.0 The NEPA Process

The EIS for the SMC facility will be prepared according to the National Environmental Policy Act of 1969 and the NRC's NEPA Regulations at 10 CFR Part 51.

After the scoping process is complete, the NRC and its contractor will prepare a draft EIS. A 45-day comment period on the draft EIS is planned, and public meetings to receive comments will be held approximately three weeks after distribution of the draft EIS. Availability of the draft EIS, the dates of the public comment period, and information about the public meetings will be announced in the Federal Register, on NRC's SMC Web page, and in the local news media when the draft EIS is distributed. The final EIS will incorporate public comments received on the draft EIS.

Signed in Rockville, MD. this 20th day of December 2006.
For The Nuclear Regulatory Commission.
Gregory F. Suber,
Acting Branch Chief, Environmental and Performance Assessment Branch, Division of Waste Management and Environmental Protection, Office of Federal and State Materials and Environmental Management Programs.

[FR Doc. E6-22239 Filed 12-27-06; 8:45 am]

BILLING CODE 7590-01-P